NATIONAL INDIAN GAMING COMMISSION

Notice of Approved Class III Tribal Gaming Ordinances

AGENCY: National Indian Gaming Commission.

ACTION: Notice.

SUMMARY: The purpose of this notice is to inform the public of Class III tribal gaming ordinances approved by the Chairman of the National Indian Gaming Commission.

DATE: This notice is effective upon date of publication in the Federal Register.

FOR FURTHER INFORMATION CONTACT: Frances Fragua, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710(d)(2)(B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register, is sufficient to meet the requirements of 25 U.S.C. 2710(d)(2)(B). Every approved tribal gaming ordinance, every approved ordinance amendment, and the approval thereof, are posted on the Commission's website (www.nigc.gov) under General Counsel, Gaming Ordinances. Also, the Commission will make copies of approved Class III ordinances available to the public upon request. Requests can be made in writing to the Office of General Counsel, National Indian Gaming Commission, Attn: Frances Fragua, C/O Department of the Interior, 1849 C Street NW, MS #1621, Washington, DC 20240.

The following constitutes a consolidated list of all Tribes for which the Chairman has approved tribal gaming ordinances authorizing Class III gaming.

1. Absentee-Shawnee Tribe of Indian of Oklahoma

2. Agua Caliente Band of Cahuilla Indians

3. Ak-Chin Indian Community of the Maricopa Indian Reservation

4. Alabama-Quassarte Tribal Town

5. Alturas Indian Rancheria

6. Apache Tribe of Oklahoma

7. Assiniboine & Sioux Tribes of Fort Peck Indian Reservation

8. Augustine Band of Cahuilla Indians

9. Bad River Band of Lake Superior Tribe of Chippewa Indians

10. Barona Group of Captain Grande Band of Mission Indians

11. Bay Mills Indian Community

12. Bear River Band of Rohnerville Rancheria

13. Berry Creek Rancheria of Tyme Maidu Indians

14. Big Lagoon Rancheria

15. Big Pine Band of Owens Valley Paiute Shoshone Indians

16. Big Sandy Rancheria Band of Western Mono Indians

17. Big Valley Band of Pomo Indians

18. Bishop Paiute Tribe

19. Blackfeet Tribe

20. Blue Lake Rancheria of California

21. Bois Forte Band of the Minnesota Chippewa Tribe

22. Bueno Vista Rancheria of Me-Wuk Indians

23. Burns Paiute Tribe

24. Cabazon Band of Mission Indians

25. Cachil DeHe Band of Wintun Indians of the Colusa Indian Community

26. Caddo Nation of Oklahoma

27. Cahto Indian Tribe of the Laytonville Rancheria

28. Cahuilla Band of Mission Indians

29. California Valley Miwok Tribe

30. Campo Band of Diegueno Mission Indians

31. Chemehuevi Indian Tribe

32. Cher-Ae Heights Indian Community of the Trinidad Rancheria

33. Cherokee Nation of Oklahoma

34. Cheyenne and Arapahoe Tribes

35. Cheyenne River Sioux Tribe

36. Chickasaw Nation of Oklahoma

37. Chicken Ranch Rancheria of Me-Wuk Indians

38. Chippewa-Cree Tribe of the Rocky Boy's Reservation

39. Chitimacha Tribe of Louisiana

40. Choctaw Nation of Oklahoma

41. Citizen Potawatomi Nation

42. Cloverdale Rancheria of Pomo Indians

43. Cocopah Indian Tribe

44. Coeur d'Alene Tribe

45. Colorado River Indian Tribes

46. Comanche Nation of Oklahoma

47. Confederated Salish and Kootenai Tribes of the Flathead Reservation

48. Confederated Tribes and Bands of the Yakama Nation

49. Confederated Tribes of Coos, Lower Umpquq and Siuslaw Indians of Oregon

50. Confederated Tribes of the Chehalis Reservation

51. Confederated Tribes of the Colville Reservation

52. Confederated Tribes of the Grand Ronde Community of Oregon

53. Confederated Tribes of Siletz Indians of Oregon

54. Confederated Tribes of the Umatilla Reservation

55. Confederated Tribes of the Warm Springs Reservation

56. Coquille Indian Tribe

57. Coushatta Tribe of Louisiana

58. Cow Creek Band of Umpqua Indians of Oregon

59. Cowlitz Indian Tribe

60. Coyote Valley Band of Pomo Indians of California

61. Crow Creek Sioux Tribe

62. Crow Indian Tribe of Montana

63. Delaware Tribe of Western Oklahoma

64. Delaware Tribe of Indians

65. Dry Creek Rancheria of Pomo Indians of California

66. Eastern Band of Cherokee Indians

67. Eastern Shawnee Tribe of Oklahoma

68. Eastern Shoshone Tribe of the Wind River Indian Reservation

69. Elem Indian Colony of Pomo Indians

70. Elk Valley Rancheria

71. Ely Shoshone Tribe of Nevada

72. Enterprise Rancheria of the Maidu Indians of California

73. Ewiiaapaayp Band of Kumeyaay Indians

74. Fallon Paiute-Shoshone Tribes

75. Federated Indians of Graton Rancheria

76. Flandreau Santee Sioux Tribe of South Dakota

77. Fond du Lac Band of Lake Superior Chippewa

78. Forest County Potawatomi Community

79. Fort Belknap Indian Community

80. Fort Independence Indian Community of Paiute Indians

81. Fort McDermitt Paiute -Shoshone Tribe of Nevada and Oregon

82. Fort McDowell Yavapai Nation

83. Fort Mojave Indian Tribe of Arizona, California and Nevada

84. Fort Sill Apache Tribe of Oklahoma

85. Gila River Indian Community

86. Grand Portage Band of Chippewa Indians

87. Grand Traverse Band of Ottawa and Chippewa Indians

88. Greenville Rancheria of Maidu Indians of California

89. Grindstone Indian Rancheria of Wintun-Wailaki Indians of California

90. Guildiville Band of Pomo Indians

91. Habermatolel Pomo of Upper Lake

92. Hannaville Indian Community

93. Ho-Chunk Nation of Wisconsin

94. Hoopa Valley Tribe

95. Hopland Band of Pomo Indians

96. Hualapai Indian Tribe

97. Iipay Nation of Santa Ysabel of California

98. Iowa Tribe of Kansas and Nebraska

99. Iowa Tribe of Oklahoma

100. Jackson Rancheria Band of Miwuk Indians

101. Jamestown S'Klallam Tribe of Washington

102. Jamul Band of Mission Indians

103. Jena Band of Choctaw Indians

104. Jicarilla Apache Nation

105. Kaibab Band of Paiute Indians

106. Kalispel Tribe of Indians

107. Karuk Tribe

108. Kaw Nation

109. Keweenaw Bay Indian Community

110. Kialegee Tribal Town

111. Kickapoo Tribe of Indians in Kansas

112. Kickapoo Tribe of Oklahoma

113. Kiowa Tribe of Oklahoma

114. Klamath Tribes

115. Klawock Cooperative Association

116. Kootenai Tribe of Idaho

117. Lac Courte Oreilles Band of Lake Superior Chippewa Indians

118. Lac du Flambeau Band of Lake Superior Chippewa Indians

119. Lac Vieux Desert Band of Lake Superior Chippewa Indians

120. La Jolla Band of Luiseno Indians

121. La Posta Band of Mission Indians

122. Las Vegas Paiute Tribe

123. Leech Lake Band of Chippewa Indians

124. Little River Band of Ottawa Indians

125. Little Traverse Bay Bands of Odawa Indians

126. Lower Brule Sioux Tribe

127. Lower Elwha Klallam Tribe

128. Lower Sioux Indian Community

129. Lummi Indian Tribe

130. Lytton Rancheria of California

131. Manchester Band of Pomo Indians of the Manchester-Point Arena Rancheria

132. Manzanita Band of Mission Indians

133. Mashantucket Pequot Tribe

134. Match-E-Be-Nash-She-Wish Band of the Potawatomi Indians of Michigan

135. Mechoopda Indian Tribe of Chico Rancheria

136. Menominee Indian Tribe of Wisconsin

137. Mescalero Apache Tribe

138. Miami Tribe of Oklahoma

139. Middletown Rancheria of Pomo Indians

140. Mille Lacs Band of Ojibwe

141. Mississippi Band of Choctaw Indians

142. Moapa Band of Paiute Indians

143. Modoc Tribe of Oklahoma

144. Mohegan Indian Tribe of Connecticut

145. Mooretown Rancheria of Maidu Indians

146. Morongo Band of Mission Indians

147. Mucketshoot Indian Tribe

148. Muscogee (Creek) Nation

149. Narragansett Indian Tribe

150. Navajo Nation

151. Nez Perce Tribe

152. Nisqually Indian Tribe

153. Nooksack Indian Tribe

154. Northern Arapaho Tribe of the Wind River Indians

155. Northern Cheyenne Tribe

156. Nottawaseppi Huron Band of Potawatomi

157. Oglala Sioux Tribe

158. Ohkay Owingeh Pueblo of San Juan

159. Omaha Tribe of Nebraska

160. Oneida Nation of New York

161. Oneida Tribe of Indians of Wisconsin

162. Osage Nation

163. Otoe-Missouri Tribe of Indians

164. Ottawa Tribe of Oklahoma

165. Paiute-Shoshone Indians of the Bishop Community

166. Pala Band of Luiseno Mission Indians

167. Pascua Yaqui Tribe of Arizona

168. Paskenta Band of Nomlaki Indians

169. Pauma Band of Mission Indians

170. Pawnee Nation of Oklahoma

171. Pechanga Band of Mission Indians

172. Peoria Tribe of Indians of Oklahoma

173. Picayune Rancheria of Chukchansi Indians

174. Pinoleville Band of Pomo Indians

175. Pit River Tribe

176. Poarch Band Creek Indians

177. Pokagon Band of Potawatomi Indians of Michigan

178. Ponca Tribe of Oklahoma

179. Ponca Tribe of Nebraska

180. Port Gamble S'Klallam Tribe

181. Prairie Band of Potawatomi Nation

182. Prairie Island Indian Community

183. Pueblo of Acoma

184. Pueblo of Isleta

185. Pueblo of Laguna

186. Pueblo of Nambe

187. Pueblo of Picuris

188. Pueblo of Pojoaque

189. Pueblo of San Felipe

190. Pueblo of Sandia

191. Pueblo of Santa Ana

192. Pueblo of Santa Clara

193. Pueblo of Taos

194. Pueblo of Tesuque

195. Puyallup Tribe of Indians

196. Pyramid Lake Paiute Tribe

197. Quapaw Tribe of Indians

198. Quartz Valley Indian Community

199. Quechan Tribe of Fort Yuma Indian Reservation

200. Quileute Tribe

201. Quinault Indian Nation

202. Red Cliff Band of Lake Superior Chippewa Indians

203. Red Cliff, Sokaogon Chippewa and Lac Courte Oreilles Band

204. Red Lake Band of Chippewa Indians

205. Redding Rancheria

206. Redwood Valley Rancheria of Pomo Indians

207. Reno-Sparks Indian Colony

208. Resighini Rancheria of Coast Indian Community

209. Rincon Band of Luiseno Mission Indians

210. Robinson Rancheria of Pomo Indians

211. Rosebud Sioux Tribe

212. Round Valley Indian Tribe

213. Sac & Fox Nation of Oklahoma

214. Sac & Fox Tribe of Mississippi in Iowa

215. Sac & Fox Nation of Missouri in Kansas and Nebraska

216. Saginaw Chippewa Indian Tribe of Michigan

217. Salt River Pima-Maricopa Indian Community

218. Samish Indian Tribe

219. San Carlos Apache Tribe

220. San Manual Band of Mission Indians

221. San Pasqual Band of Diegueno Mission Indians

222. Santa Rosa Rancheria Tachi-Yokut Tribe

223. Santa Ynez Band of Chumash Mission Indians

224. Sauk-Suiattle Indian Tribe

225. Sault Ste. Marie Tribe of Chippewa Indians

226. Scotts Valley Band of Pomo Indians

227. Seminole Nation of Oklahoma

228. Seminole Tribe of Florida

229. Seneca Nation of Indians of New York

230. Seneca-Cayuga Tribe of Oklahoma

231. Shakopee Mdewakanton Sioux Community

232. Shawnee Tribe

233. Sherwood Valley Rancheria of Pomo Indians

234. Shingle Springs Band of Miwuk Indians

235. Shoalwater Bay Indian Tribe

236. Shoshone-Bannock Tribes of the Fort Hall Indian Reservation of Idaho

237. Shoshone-Paiute Tribe of the Duck Valley Indian Reservation

238. Sisseton-Wahpeton Oyate of the Lake Traverse Reservation

239. Skokomish Indian Tribe

240. Smith River Rancheria

241. Snoqualmie Tribe

242. Soboba Band of Luiseno Indians

243. Sokaogon Chippewa Community

244. Southern Ute Indian Tribe

245. Sprite Lake Tribe

246. Spokane Tribe of Indians

247. Squaxin Island Tribe

248. St. Croix Chippewa Indians of Wisconsin

249. St. Regis Mohawk Tribe

250. Standing Rock Sioux Tribe

251. Stillaguamish Tribe of Indians

252. Stockbridge-Munsee Community

253. Suquamish Tribe of the Port Madison Reservation

254. Susanville Indian Rancheria

255. Swinomish Indian Tribal Community

256. Sycuan Band of Diegueno Mission Indians

257. Table Mountain Rancheria

258. Te-Moak Tribe of Western Shoshone Indians of Nevada

259. Thlopthlocco Tribal Town

260. Three Affiliated Tribes of the Fort Berthold Reservation

261. Timbisha Shoshone Tribe

262. Tohono O'odham Nation

263. Tolowa Dee-ni' Nation

264. Tonkawa Tribe of Oklahoma

265. Tonto Apache Tribe

266. Torres Martinez Desert Cahuilla Indians

267. Tulalip Tribes of Washington

268. Tule River Tribe

269. Tunica-Biloxi Indians of Louisiana

270. Tuolumne Band of Me-Wuk Indians

271. Turtle Mountain Band of Chippewa Indians

272. Twenty-Nine Palms Band of Mission Indians

273. United Auburn Indian Community

274. Upper Sioux Community

275. Upper Skagit Indian Tribe of Washington

276. Ute Mountain Ute Tribe

277. U-tu-Utu-Gwaitu Paiute Tribe of Benton Paiute Reservation

278. Viejas Band of Kumeyaay Indians

279. Washoe Tribe of Nevada and California

280. White Earth Band of Chippewa Indians

281. White Mountain Apache Tribe

282. Wichita and Affiliated Tribes of Oklahoma

283. Winnebago Tribe of Nebraska

284. Wiyot Tribe of Table Bluff Reservation

285. Wyandotte Nation of Oklahoma

286. Yankton Sioux Tribe

287. Yavapai Apache Nation of the Camp Verde Indian Reservation

288. Yavapai-Prescott Indian Tribe

289. Yocha-De-He Wintun Nation

290. Yurok Tribe

National Indian Gaming Commission.
Jonodev Chaudhuri,
Chairman.
Kathryn Isom-Clause,
Vice Chair.
E. Sequoyah Simermeyer,
Associate Commissioner.

[FR Doc. 2019-06566 Filed 4-3-19; 8:45 am]

BILLING CODE 7565-01-P